DEPARTMENT OF TRANSPORTATION

National Highway Traffic Safety Administration

[Docket No. NHTSA-2022-0073; Notice 1]

Comoto Holdings, Inc., Receipt of Petition for Decision of Inconsequential Noncompliance

AGENCY: National Highway Traffic Safety Administration (NHTSA), Department of Transportation (DOT).

ACTION: Receipt of petition.

SUMMARY: Comoto Holdings, Inc., (Comoto), has determined that certain Street & Steel Oakland motorcycle helmets do not fully comply with Federal Motor Vehicle Safety Standard (FMVSS) No. 218, Motorcycle Helmets. On July 6, 2022, Comoto filed a noncompliance report and submitted a petition, for a decision that the subject noncompliance is inconsequential as it relates to motor vehicle safety. This document announces receipt of Comoto's petition.

DATES: Send comments on or before November 4, 2024.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Paloma Lampert, Safety Compliance Engineer, Office of Vehicle Safety Compliance, NHTSA, (202) 366-5299.

SUPPLEMENTARY INFORMATION:

I. Overview: Comoto determined that certain Street & Steel Oakland motorcycle helmets do not fully comply with paragraph S5.1(b) of FMVSS No. 218, Motorcycle Helmets (49 CFR 571.218).

Comoto filed a noncompliance report dated July 6, 2022, pursuant to 49 CFR part 573, Defect and Noncompliance Responsibility and Reports. Comoto petitioned NHTSA on July 6, 2022, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Comoto's petition is published under 49 U.S.C. 30118 and 30120 and does not represent any agency decision or another exercise of judgment concerning the merits of the petition.

II. Equipment Involved: Approximately 408 size XL Street & Steel Oakland motorcycle helmets, manufactured between August 1, 2021, and August 31, 2021, were reported by the manufacturer.

III. Noncompliance: Comoto explains that the noncompliance is that when the subject helmets are subjected to the low temperature conditioning procedure, as specified in paragraph S6.4.1(b), and then tested in accordance with paragraph S7.1, they do not meet the requirements provided in paragraph S5.1(b) of FMVSS No. 218. Specifically, Comoto found that during its own FMVSS No. 218 testing, a single helmet failed the impact attenuation dwell time requirement because a cumulative dwell time of 2.07 ms was measured during the second impact onto the flat anvil, at the right location of the helmet conditioned to the low temperature procedure.

IV. Rule Requirements: Paragraph S5.1(b), of FMVSS No. 218 includes the requirements relevant to this petition. Each helmet must meet the requirements of paragraph S5.1 when subjected to any conditioning procedure specified in S6.4.1(b) and tested in accordance with S7.1. When an impact attenuation test is conducted in accordance with paragraph S7.1, among other requirements, accelerations in excess of 200g shall not exceed a cumulative duration of 2.0 milliseconds

V. Summary of Comoto's Petition: The following views and arguments presented in this section, “V. Summary of Comoto's Petition,” are the views and arguments provided by Comoto. They have not been evaluated by the Agency and do not reflect the views of the Agency. Comoto describes the subject noncompliance and contends that the noncompliance is inconsequential as it relates to motor vehicle safety.

Comoto states that the subject noncompliance should be deemed inconsequential because the result was 2.07ms, which Comoto says is “remarkably close to a PASS.” Furthermore, Comoto states the same model and size helmets have met this requirement in prior years, as far back as December 2017.

Comoto concludes by stating its belief that the subject noncompliance is inconsequential as it relates to motor vehicle safety and its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject motorcycle helmets that Comoto no longer controlled at the time it determined that the noncompliance existed. However, any decision on this petition does not relieve equipment distributors and dealers of the prohibitions on the sale, offer for sale, or introduction or delivery for introduction into interstate commerce of the noncompliant motorcycle helmets under their control after Comoto notified them that the subject noncompliance existed.

(Authority: 49 U.S.C. 30118, 30120: delegations of authority at 49 CFR 1.95 and 501.8)

Otto G. Matheke III,
Director, Office of Vehicle Safety Compliance.

[FR Doc. 2024-23011 Filed 10-3-24; 8:45 am]

BILLING CODE 4910-59-P